DEPARTMENT OF TRANSPORTATION

Federal Aviation Administration

14 CFR Part 39

[Docket No. FAA-2012-1016; Directorate Identifier 2010-SW-009-AD; Amendment 39-17386; AD 2013-05-14]

RIN 2120-AA64

Airworthiness Directives; Bell Helicopter Textron, Inc.

AGENCY: Federal Aviation Administration (FAA), DOT.

ACTION: Final rule.

SUMMARY: We are adopting a new airworthiness directive (AD) for Bell Helicopter Textron, Inc. (Bell), Model 412 and 412EP helicopters. This AD requires establishing a lower life limit on certain swashplate outer ring assemblies (outer ring), revising the retirement life on the components' history card or equivalent record, and revising the maintenance manual or Instructions for Continued Airworthiness (ICA). This AD also prohibits installing these outer rings on any helicopter. This AD was prompted by reports of cracking in the outer rings. The actions are intended to prevent failure of an outer ring because of cracking, which could lead to the loss of main rotor (M/R) blade pitch control and subsequent loss of helicopter control.

DATES: This AD is effective April 26, 2013.

ADDRESSES: For service information identified in this AD, contact Bell Helicopter Textron, Inc., P.O. Box 482, Fort Worth, TX 76101; telephone (817) 280-3391; fax (817) 280-6466; or at http://www.bellcustomer.com/files/. You may review a copy of the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Michael Kohner, Aviation Safety Engineer, Rotorcraft Certification Office, Rotorcraft Directorate, FAA, 2601 Meacham Blvd., Fort Worth, TX 76137; telephone (817) 222-5447; email 7-avs-asw-170@faa.gov.

SUPPLEMENTARY INFORMATION:

Discussion

On September 24, 2012, at 77 FR 58794, the Federal Register published our notice of proposed rulemaking (NPRM), which proposed to amend 14 CFR part 39 to include an AD that would apply to Bell Model 412 and 412EP helicopters, with an outer ring, part number (P/N) 412-010-407-105. That NPRM proposed to require establishing a lower life limit on certain outer rings, revising the retirement life on the components' history card or equivalent record, and revising the maintenance manual or ICA. The proposal also proposed prohibiting the installation of these outer rings on any helicopter. The outer rings had a life limit of 10,000 hours TIS, but Bell has recommended reducing that limit to 2,500 hours TIS because of reports of cracking in the outer rings. The proposed requirements were intended to prevent failure of an outer ring, which could lead to the loss of M/R blade pitch control and subsequent loss of helicopter control.

Comments

We gave the public the opportunity to participate in developing this AD, but we received no comments on the NPRM (77 FR 58794, September 24, 2012).

FAA's Determination

We have reviewed the relevant information and determined that an unsafe condition exists and is likely to exist or develop on other products of these same type designs and that air safety and the public interest require adopting the AD requirements as proposed with minor editorial changes. These changes are consistent with the intent of the proposals in the NPRM (77 FR 58794, September 24, 2012) and will not increase the economic burden on any operator nor increase the scope of the AD.

Related Service Information

We have reviewed Bell Helicopter Alert Service Bulletin No. 412-08-131, Revision B, dated October 29, 2009 (ASB), which describes procedures for establishing a new retirement life for the outer ring and replacing the outer ring at 2,500 hours TIS.

Differences Between This AD and the Service Information

The ASB sets a calendar date for compliance. This AD does not.

Costs of Compliance

We estimate that this AD affects 143 helicopters. We estimate that it takes about 1 work-hour to revise the component history card or equivalent record, as well as the maintenance manual or ICA, at an average labor rate of $85 per work hour, for a total cost of $85 per helicopter and $12,155 for the U.S. operator fleet. Replacing an outer ring takes 26 work-hours and required parts costs an estimated $25,725. Based on these figures, we calculate the total cost to be $27,935 per helicopter to replace an outer ring.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-05-14 Bell Helicopter Textron, Inc. (Bell): Amendment 39-17386; Docket No. FAA-2012-1016; Directorate Identifier 2010-SW-009-AD.

(a) Applicability

This AD applies to Bell Model 412 and 412EP helicopters, with a swashplate outer ring assembly (outer ring), part number (P/N) 412-010-407-105, certificated in any category.

(b) Unsafe Condition

This AD defines the unsafe condition as cracking in the outer ring, which could result in the loss of main rotor (M/R) blade pitch control and subsequent loss of helicopter control.

(c) Effective Date

This AD becomes effective April 26, 2013.

(d) Compliance

You are responsible for performing each action required by this AD within the specified compliance time unless it has already been accomplished prior to that time.

(e) Required Actions

(1) Within 30 days, establish a retirement life of 2,500 hours time-in-service (TIS) for any affected outer ring on the component history card or equivalent record. Revise the helicopter Airworthiness Limitations section of the applicable maintenance manual or Instructions for Continued Airworthiness (ICA) by establishing the new retirement life by making pen-and-ink changes or inserting a copy of this AD into the maintenance manual or the ICAs.

(2) For any affected outer ring that, on the effective date of this AD, has 2,200 or more hours TIS, within 300 hours TIS, replace the outer ring with an airworthy outer ring.

(3) Within 12 months, for any affected outer ring, regardless of the number of hours TIS, replace the outer ring with an airworthy outer ring.

(4) Do not install outer ring, P/N 412-010-407-105, on any helicopter.

(f) Special Flight Permits

No special flight permits will be issued for any helicopter installed with outer ring, P/N 412-010-407-105, if the outer ring has 2,500 hours or more TIS.

(g) Alternative Methods of Compliance (AMOCs)

(1) The Manager, Safety Management Group, FAA, may approve AMOCs for this AD. Send your proposal to: Michael Kohner, Aviation Safety Engineer, Rotorcraft Certification Office, Rotorcraft Directorate, FAA, 2601 Meacham Blvd., Fort Worth, TX 76137; telephone (817) 222-5447; email 7-avs-asw-170@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

Bell Helicopter Alert Service Bulletin No. 412-08-131, Revision B, dated October 29, 2009, which is not incorporated by reference, contains additional information about the subject of this AD. For service information identified in this AD, contact Bell Helicopter Textron, Inc., P.O. Box 482, Fort Worth, TX 76101; telephone (817) 280-3391; fax (817) 280-6466; or at http://www.bellcustomer.com/files/. You may review a copy of this service information at the FAA, Office of the Regional Counsel, Southwest Region, 2601 Meacham Blvd., Room 663, Fort Worth Texas 76137.

(i) Subject

Joint Aircraft Service Component (JASC) Code: 6230, Main Rotor Mast/Swashplate.

Issued in Fort Worth, Texas, on March 6, 2013.
Lance T. Gant,
Acting Directorate Manager, Rotorcraft Directorate, Aircraft Certification Service.

[FR Doc. 2013-05875 Filed 3-21-13; 8:45 am]

BILLING CODE 4910-13-P